DEPARTMENT OF DEFENSE

Department of the Army; Corps of Engineers

Amended Notice of Intent To Prepare an Environmental Impact Statement for the Proposed Regional Watershed Supply Project, Second Notice of Extension of Scoping Period

AGENCY: Department of the Army, U.S. Army Corps of Engineers, DoD.

ACTION: Notice; extension of comment period.

SUMMARY: The public scoping comment period for the Intent to Prepare an Environmental Impact Statement for the Regional Watershed Supply Project by Million Conservation Resource Group, published in the Federal Register on Friday, March 20, 2009 (74 FR 11920), required comments be submitted May 19, 2009 following publication in the Federal Register. The comment period was later extended to July 27, 2009, to accommodate requests from entities that desired more time and from areas that desired additional public meetings. The comment period has now been extended to September 28, 2009. Due to number of cooperating agency requests received, the Corps is extending the comment period to allow for additional time to respond to these requests. During this time period, the Corps will communicate with certain entities regarding the possibility of consolidating participation through designation of a single point of contact to represent multiple entities.

FOR FURTHER INFORMATION CONTACT: Questions and comments regarding the proposed action and EIS should be addressed to Ms. Rena Brand, Project Manager, U.S. Army Corps of Engineers, Denver Regulatory Office, 9307 S. Wadsworth Blvd., Littleton, CO 80128-6901; (303) 979-4120; mcrg.eis@usace.army.mil.

SUPPLEMENTARY INFORMATION: None.

Brenda S. Bowen,
Army Federal Register Liaison Officer.

[FR Doc. E9-19232 Filed 8-10-09; 8:45 am]

BILLING CODE 3720-58-P